DEPARTMENT OF AGRICULTURE

Food and Nutrition Service

Agency Information Collection Activities: Proposed Collection; Comment Request—Supplemental Nutrition Assistance Program (SNAP): Operating Guidelines, Forms and Waivers

AGENCY: Food and Nutrition Service (FNS), USDA.

ACTION: Notice.

SUMMARY: In accordance with the Paperwork Reduction Act of 1995, this notice invites the general public and other public agencies to comment on this information collection. This is a revision of a currently approved collection. This information collection consists of five components of State agency reporting and/or recordkeeping: A budget projection statement, a program activity report, State plans of operation updates, waiver requests, and other plans and submissions such as advance planning documents for information systems and for electronic benefit transfer (EBT) systems.

DATES: Written comments must be received on or before January 31, 2020.

ADDRESSES: Comments may be sent to: Jane Duffield, Branch Chief, State Administration Branch, Program Accountability and Administration Division, Food and Nutrition Service, U.S. Department of Agriculture, 3101 Park Center Drive, Room 818, Alexandria, VA 22302. Comments may also be submitted via email to SM.FN.SNAPSAB@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Evan Sieradzki 703-605-3212.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Operating Guidelines, Forms and Waivers.

OMB Number: 0584-0083.

Forms: SNAP Waiver Request Template.

Expiration Date: July 31, 2020.

Type of Request: Revision of a currently approved collection.

Abstract: Section 16(a) of the Food and Nutrition Act of 2008 (the Act) authorizes 50 percent Federal reimbursement for State agency costs to administer the program. 7 CFR 272.2(a) of SNAP regulations states that State agencies shall periodically plan and budget program operations and establish objectives for the next year. The basic components of the State Plan of Operation are the Federal/State Agreement, the Budget Projection Statement (FNS-366A) and the Program Activity Statement (FNS-366B) (7 CFR 272.2(a)(2)). Under 7 CFR 272.2(c), the State agency shall annually submit to FNS for approval a Budget Projection Statement which shall contain projections for each quarter of the next Federal Fiscal Year and a narrative justification document explaining the assumptions used to arrive at the projections. The reporting burden [a total of 3,876 burden hours and 267 total annual responses] for forms FNS-366A, has 696 burden hours and 55 total annual responses and FNS-366B has 3,180 total burden hours and 212 total annual responses) was merged in the burden for the Food Programs Reporting System (OMB control number 0584-0594, expiration date September 30, 2019, currently under review); therefore, reporting hours associated with these forms are not included in this notice. However, recordkeeping requirements for these forms remains in this OMB Control Number. The State agency shall also submit quarterly a Program Activity Statement soliciting a summary of Program activity for the State agency's operations during the preceding reporting period. In addition, certain attachments to the plan as specified in subparagraphs (c) and (d) are to be submitted. As specified in subparagraph (f), State agencies only have to provide FNS with changes to these attachments as they occur. Consequently, these attachments are considered State plan updates. Under Section 11(o) of the Act, each State agency is required to develop and submit plans for the use of automated data processing (ADP) and information retrieval systems to administer SNAP. Section 16(a) of the Act authorizes partial Federal reimbursement of State costs for State ADP systems that the Secretary determines will assist meeting the requirements of the Act, meets conditions prescribed by the Secretary, are likely to provide more efficient and effective administration of the program, and are compatible with certain other Federally-funded systems. Under 7 CFR 277.18(c)(1) of SNAP regulations, State agencies must obtain prior written approval from FNS when it plans to enhance, replace, or acquire Information System (IS) equipment with a total acquisition cost of $6 million or more in Federal and State funds. The State agency must submit an Advance Planning Document (APD) prior to acquiring planning services and an Implementation APD prior to acquiring ADP equipment or services. Additionally, State agencies administering SNAP may submit formal written requests, SNAP waiver requests, to obtain approval from FNS to deviate from a specific program rule or regulation. Current procedures require that in order for FNS to approve a SNAP waiver request, the State agency must submit the SNAP Waiver Request template to FNS. Due to ongoing technical complications, the SNAP Workflow Information Management (SWIM) system has been suspended however, FNS may consider its use in the future. This suspension does not modify the currently approved burden hours in any way and States will continue to submit the SNAP Waiver Requests electronically via email.

Burden Estimates: The burden within this collection consists of reporting and recordkeeping burden for the State Plan of Operation Updates and APD Plans or Updates; and only recordkeeping burden for forms FNS-366A and FNS-366B. The current burden is 1,095.76 hours (1,056.04 reporting hours and 39.72 recordkeeping hours. The calculation of the burden for each of these components is described below:

Reporting

Reporting Burden Estimates: Affected Public: State, Local and Tribal Government Agencies.

Estimated Number of Respondents: 53.

Estimated Number of Responses per Respondent: 8.35.

Estimated Total Annual Responses: 442.3.

Estimated Reporting Time per Response: 2.3876.

Estimated Annual Reporting Burden Hours: 1,056.04.

State Plan of Operation Updates. 53 State agencies submit one 1 response annually for a total of 53 annual responses. The reporting burden for submission of updates to State Plans of Operation is 6.58 hours per respondent, resulting in estimated burden hours of 348.74 (53 × 6.58 = 348.74).

APD Plans or Updates. We estimate that up to 53 State agencies may submit on an average of 4 APD, plan, or update submission for a total of 212 annual responses at an average estimate of 2.5 hours per respondent. The reporting burden is 530 hours.

SNAP Waiver Requests. FNS estimates that out of 53 State agencies 45 State will submit 3.94 of the three identified waivers annually for a total number of 177.3 Waivers annually. Completion and submission of these waivers take approximately 1 hour for a total of 177.3 burden hours annually.

Reporting

Affected public | Burden activities | Forms | CFR citations | Number of respondents | Frequency of response | Total annual responses | Time per response (hrs) | Annual reporting burden hours
State Agencies | Plan of Operations |  | 272.2 | 53.00 | 1.00 | 53.00 | 6.58 | 348.74
| Other APD Plan or Update |  | 277.18 | 53.00 | 4.00 | 212.00 | 2.50 | 530.00
| SNAP Waiver Requests | SNAP Waiver Template | 272.3(c) | 45.00 | 3.94 | 177.30 | 1.00 | 177.30
Reporting Total Burden Estimates | 53.00 | 8.35 | 442.30 | 2.3876 | 1,056.04

Recordkeeping

Recordkeeping Burden Estimates: Affected Public: State, Local and Tribal Government Agencies.

Estimated Number of Recordkeepers: 53.

Estimated Number of Records per Recordkeepers: 9.85.

Estimated Total Annual Records: 522.

Estimated Recordkeeping Time per Recordkeepers: 0.07609.

Estimated Annual Recordkeeping Burden Hours: 39.72.

FNS-366A. State agencies are required to submit to FNS for approval a Budget Projection Statement, Form FNS-366A, which includes projections of the total Federal costs for major areas of program operations. There is a total of 53 recordkeepers for each activity. Each State agency submits 1 response annually for a total of 53 annual responses. A copy is maintained for 3 years. It takes approximately 0.05 minutes to maintain each record. Total annual recordkeeping burden for FNS-366A is estimated at 2.65 hours annually per recordkeeper.

FNS-366B. State agencies are required to submit to FNS quarterly, a Program Activity Statement, Form FNS-366B, providing a summary of program activity for the State agency's operations during its preceding quarter. Each State agency submits 4 responses annually for a total of 212 annual responses; each record takes approximately 0.05 minutes to maintain. The annual recordkeeping burden for FNS-366B is estimated annually at 2.65 hours per recordkeeper.

State Plan of Operation Updates. Each State agency submits 1 response annually for a total of 45 annual responses; each record takes approximately 0.07 minutes to maintain. The annual recordkeeping burden for updates to State Plans of Operation as attachments to the FNS-366B is 3.15 hours per recordkeeper.

Other APD Plans and Updates. FNS estimated that up to 53 State agencies may submit an average of 4 APD, Plan, or Update submissions and approximately 212 records at an average estimate of 0.11 minutes per recordkeeper for an estimated total of 23.32 recordkeeping burden for this activity hours.

Affected public | Form No. or activity | Number recordkeepers | Number records per respondent | Estimate total annual records (c × d) | Hours per recordkeeper | Total burden (e × f)
| (b) | (c) | (d) | (e) | (f) | (g)
Recordkeeping
State Agencies | FNS-366A | 53.00 | 1.00 | 53.00 | 0.05 | 2.65
| FNS-366B | 53.00 | 4.00 | 212.00 | 0.05 | 10.60
| Plan of Operations Updates | 45.00 | 1.00 | 45.00 | 0.07 | 3.15
| Other APD Plan or Update | 53.00 | 4.00 | 212.00 | 0.11 | 23.32
Recordkeeping Total Burden Estimates |  | 53.00 | 9.85 | 522.00 | 0.076091954 | 39.72

Dated: November 18, 2019.
Pamilyn Miller,
Administrator, Food and Nutrition Service.

[FR Doc. 2019-26043 Filed 11-29-19; 8:45 am]

BILLING CODE 3410-30-P